DEPARTMENT OF JUSTICE

Antitrust Division

Notice Pursuant to the National Cooperative Research and Production Act of 1993—Dynamic Spectrum Alliance, Inc.

Notice is hereby given that, on September 1, 2020, pursuant to Section 6(a) of the National Cooperative Research and Production Act of 1993, 15 U.S.C. 4301 et seq. (“the Act”), Dynamic Spectrum Alliance, Inc. (“DSA”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Broadcom Corporation, San Jose, CA; Federated Wireless, Inc., Arlington, VA; Gigabit Libraries Network, Sausalito, CA; Aruba, a Hewlett Packard Enterprise company, Santa Clara, CA; Microsoft Corporation, Redmond, WA; and New America, Palo Alto, CA.

The general area of DSA's planned activity is to (a) promote the adoption of laws and regulations that increase dynamic access to unused radio spectrum (“Spectrum”); (b) support efforts to gain a better understanding of Spectrum use around the world; (c) be technology-neutral and support regulations allowing for the coexistence of a variety of technology platforms; (d) support making unused Spectrum available for dynamic Spectrum access in licensed, license-exempt (unlicensed), and lightly licensed Spectrum bands; (e) support dynamic Spectrum access across a variety of complementary Spectrum bands; (f) support the use of geolocation databases and other interference protection mechanisms; (g) support globally harmonized dynamic access to unused Spectrum; (h) support long-term efforts to develop regulations making dynamic Spectrum access the default mode of access to radio spectrum, with technical rules that address legitimate interference concerns; and (i) undertake such other activities as may from time to time be appropriate to further the purposes and achieve the goals set forth above.

Suzanne Morris,
Chief, Premerger and Division Statistics, Antitrust Division.

[FR Doc. 2020-20623 Filed 9-17-20; 8:45 am]

BILLING CODE P